DEPARTMENT OF AGRICULTURE

Federal Crop Insurance Corporation

7 CFR Parts 402, 407, and 457

[Docket No. FCIC-17-0004]

RIN 0563-AC56

Catastrophic Risk Protection Endorsement; Area Risk Protection Insurance Regulations; and the Common Crop Insurance Regulations, Basic Provisions

Correction

In rule document 2017-25330 beginning on page 55723 in the issue of Friday, November 24, 2017, make the following corrections:

§ 407.9 [Corrected]

1. In § 407.9, on page 55730, in the third column, in the 45th-47th lines, amendatory instruction 4.a should read:

a. Remove the phrase “Web site” wherever it appears and add the word “website” in its place;

2. In the same section, on the same page, in the same column, in the 51st-56th lines, amendatory instruction 4.b.ii should read:

ii. In the definition of “Limited resource farmer”, remove “http://www.lrftool.sc.egov.usda.gov or a successor website” and add “http://lrftool.sc.egov.usda.gov/LRP_Definition.aspx” in its place;

§ 457.8 [Corrected]

3. In § 457.8, on page 55731, in the second column, in the 33rd-35th lines, amendatory instruction 6.a should read:

a. Remove the phrase “Web site” wherever it appears and add the word “website” in its place;

[FR Doc. C1-2017-25330 Filed 12-13-17; 8:45 am]

BILLING CODE 1301-00-D